DEPARTMENT OF ENERGY

Federal Energy Regulatory Commission

[Project No. 344 California]

Southern California Edison; Notice Soliciting Applications

July 9, 2001.

On April 24, 1998, the Southern California Edison Company, licensee for the San Gorgonio Nos. 1 and 2 Hydroelectric Project No. 344, filed a notice of intent to file an application for a new license, pursuant to Section 15(b)(1) of the Federal Power Act (Act). The original license for Project No. 344 was issued effective May 1, 1983 and expires April 26, 2003. The project occupies lands of the United States within the San Bernardino National Forest.

The project is located on the San Gorgonio River, in San Bernardino County, California. The principal project works consist of: (a) Two diversion dams; (b) concrete-lined canals; (c) two water tanks; (d) two forebays; (e) two penstocks; (f) two powerhouses with a total installed capacity of 2,440 kilowatts, (g) two switchyards; (h) a transmission line; and (i) appurtenant facilities.

The licensee did not file an application for new license which was due by April 26, 2001. Pursuant to Section 16.25 of the Commission's Regulations, the Commission is soliciting applications from potential applicants other than the existing licensee. This is necessary because the deadline for filing an application for new license and any competing license applications, pursuant to Section 16.9 of the regulations, was April 26, 2001, and no other applications for license for this project were filed.

The licensee is required to make available certain information described in Section 16.7 of the regulations. For more information from the licensee contact Mr. Walt Pagel, Southern California Edison Company, 300 North Lone Hill Avenue, San Dimas, CA 91773 or (909) 394-8720.

A potential applicant that files a notice of intent within 90 days from the date of issuance of this notice: (1) May apply for a license under part I of the Act and part 4 (except Section 4.38) of the Commission's Regulations within 18 months of the date on which it files its notice; and (2) must comply with the requirements of Sections 16.8 and 16.10 of the Commission's Regulations.

Questions concerning this notice should be directed to Tim Looney at (202) 219-2852 or by email at timothy.looney@ferc.fed.us.

Linwood A. Watson, Jr.,
Acting Secretary.

[FR Doc. 01-17543 Filed 7-12-01; 8:45 am]

BILLING CODE 6717-01-P